ENVIRONMENTAL PROTECTION AGENCY

[EPA-HQ-OPPT-2012-0258; FRL-9527-4]

Information Collection Request Submitted to OMB for Review and Approval; Comment Request; Notification of Chemical Exports—TSCA Section 12(b)

AGENCY: Environmental Protection Agency (EPA).

ACTION: Notice.

SUMMARY: In compliance with the Paperwork Reduction Act (PRA), this document announces that an Information Collection Request (ICR) has been forwarded to the Office of Management and Budget (OMB) for review and approval. This is a request to renew the current approval for the ICR entitled “Notification of Chemical Exports—TSCA Section 12(b)” and identified as EPA ICR No. 0795.14 and OMB Control No. 2070-0030). The ICR, which is abstracted below, describes the nature of the information collection and its estimated burden and cost, and is available in the docket for additional public review and comment.

DATES: Additional comments may be submitted on or before March 6, 2013.

ADDRESSES: Submit your comments, referencing Docket ID Number EPA-HQ-OPPT-2012-0258, to (1) EPA online using www.regulations.gov (our preferred method), by mail to: EPA Docket Center, Environmental Protection Agency, Mail Code 28221T, 1200 Pennsylvania Ave. NW., Washington, DC 20460, and (2) OMB via email to oira_submission@omb.eop.gov. Address comments to OMB Desk Officer for EPA. For additional information about EPA's public docket, visit http://www.epa.gov/dockets.

FOR FURTHER INFORMATION CONTACT: Pamela Myrick, Deputy Director, Environmental Assistance Division, Office of Pollution Prevention and Toxics, Mail code: 7408-M, Environmental Protection Agency, 1200 Pennsylvania Ave. NW., Washington, DC 20460; telephone number: 202-554-1404; fax number: 202-564-8251; email address: TSCA-Hotline@epa.gov.

SUPPLEMENTARY INFORMATION: EPA has submitted the following ICR to OMB for review and approval according to the procedures under the PRA (44 U.S.C. 3501 et seq.), as prescribed in 5 CFR 1320.12. On May 7, 2012 (77 FR 26750), EPA sought comments on this ICR pursuant to 5 CFR 1320.8(d). EPA received one comment, which is addressed in the ICR package submitted to OMB. As required by the PRA, EPA is hereby soliciting additional comments on this ICR, which should be submitted to EPA and OMB within 30 days of this notice.

Title: Notification of Chemical Exports—TSCA Section 12(b)

ICR numbers: EPA ICR No. 0795.14, OMB Control No. 2070-0030.

ICR Status: EPA is requesting the renewal of the currently approved ICR, which is currently approved through March 31, 2013. The ICR, which is abstracted below, describes the nature of the information collection and its estimated burden and cost. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 12(b)(2) of the Toxic Substances Control Act (TSCA) requires that any person who exports or intends to export to a foreign country a chemical substance or mixture that is regulated under TSCA sections 4, 5, 6 and/or 7 submit to EPA notification of such export or intent to export. Upon receipt of notification, EPA will advise the government of the importing country of the U.S. regulatory action with respect to that substance. EPA uses the information obtained from the submitter via this collection to advise the government of the importing country. This information collection addresses the burden associated with industry reporting of export notifications. The respondent may claim all or part of a notice confidential. EPA will disclose information that is covered by a claim of confidentiality only to the extent permitted by, and in accordance with, the procedures in TSCA and 40 CFR Part 2.

Burden Statement: The annual public reporting and recordkeeping burden for this collection of information is estimated to be 1.1 hours per response. Burden is defined in 5 CFR 1320.3(b). The ICR provides a detailed explanation of this estimate, which is only briefly summarized here:

Respondents/affected entities: Entities potentially affected by this action are companies that export chemical substances.

Respondent's obligation to respond: Mandatory.

Estimated number of respondents: 240 (total).

Frequency of response: On occasion.

Total estimated annual burden: 4,025 hours per year.

Total estimated annual cost: $245,246 per year, includes $0 annualized capital or operation and maintenance costs.

Changes in the Estimates: There is a decrease of 825 hours in the total estimated respondent burden compared with the ICR currently approved by OMB. This decrease represents the net effect of a decrease in the estimated number of notices sent to EPA and a decrease in the number of firms sending notices, which is based on EPA's recent experience with TSCA section 12(b) notices. This change is an adjustment. The Supporting Statement provides additional detail concerning the change in burden estimate.

John Moses,
Director, Collection Strategies Division.

[FR Doc. 2013-02323 Filed 2-1-13; 8:45 am]

BILLING CODE 6560-50-P